DEPARTMENT OF HEALTH AND HUMAN SERVICES

National Institutes of Health

Center for Scientific Review; Amended Notice of Meeting

Notice is hereby given of a change in the meeting of the Center for Scientific Review Special Emphasis Panel, February 7, 2006, 1 p.m. to February 7, 2006, 2:30 p.m., National Institutes of Health, 6701 Rockledge Drive, Bethesda, MD 20892 which was published in the Federal Register on January 24, 2006, 71 FR 3871-3873.

The meeting will be held on February 6, 2006. The meeting time and location remain the same. The meeting is closed to the public.

Dated: February 2, 2006.
Anna Snouffer,
Acting Director, Office of Federal Advisory Committee Policy.

[FR Doc. 06-1331 Filed 2-13-06; 8:45 am]

BILLING CODE 4140-01-M